DEPARTMENT OF THE INTERIOR

Bureau of Land Management

[LLCAC09000-14300000-ET; CACA 51408]

Notice of Proposed Withdrawal and Opportunity for Public Meeting; California

AGENCY: Bureau of Land Management, Interior.

ACTION: Notice.

SUMMARY: The Assistant Secretary of the Interior for Land and Minerals Management proposes to withdraw approximately 28,953 acres of public lands from location and entry under the United States mining laws (30 U.S.C. 22 et seq.) for a period of 20 years, on behalf of the Bureau of Land Management (BLM), to limit impacts to public safety and human health from naturally occurring asbestos and past mining activities within the Clear Creek Management Area (CCMA). This notice temporarily segregates the lands for up to 2 years from location and entry under the United States mining laws (30 U.S.C. 22 et seq.) while various studies and analyses are made to support a final decision on the withdrawal application. In addition, approximately 3,763 acres of non-Federal lands located inside of the boundary of the proposed withdrawal area, if acquired by or returned to the United States, would also be included in the proposed withdrawal and subject to the temporary segregation authorized by this notice.

DATES: Comments and meeting requests should be received on or before November 1, 2010.

ADDRESSES: Comments should be sent to Rick Cooper, Field Manager, Hollister Field Office, Bureau of Land Management, 20 Hamilton Court, Hollister, California 95023.

FOR FURTHER INFORMATION CONTACT: Dan Byrne, Hollister Field Office, BLM, 831-630-5031 or Brandon G. Anderson, California State Office, BLM, 916-978-4674.

SUPPLEMENTARY INFORMATION: The BLM ordered the temporary closure of 31,000 acres of public lands in the CCMA on May 1, 2008, based on the results of the Environmental Protection Agency's (EPA) CCMA Asbestos Exposure and Human Health Risk Assessment. Using activity-based air sampling methods, the EPA concluded that visiting the CCMA more than once per year can put adults and children above the EPA's acceptable risk range for exposure to carcinogens.

The applicant for the proposed withdrawal is the BLM at the address stated above. The petition/application requests the Assistant Secretary for Land and Minerals Management to withdraw, for a period of 20 years and subject to valid existing rights, the following described public lands from location and entry under the United States mining laws (30 U.S.C. 22 et seq.), but not the public land, mineral or geothermal leasing, or the mineral materials laws:

(a) Public Lands.

Mount Diablo Meridian

T. 17 S., R. 11 E.,

Sec. 25, lots 5, 6, and 10 to 15, inclusive;

Sec. 26, lots 15, 16, and 20;

Sec. 34, lots 16, 18, 19, and Mineral Survey No. 5253, not patented;

Sec. 35;

Sec. 36, lots 10 to 16, inclusive.

T. 18 S., R. 11 E.,

Sec. 1;

Sec. 2, lots 1 to 9, inclusive, S½N½, NW¼SW¼, and N½SE¼;

Sec. 3, S½NE¼, SE¼SW¼, and SE¼;

Sec. 10, E½ and E½W½;

Sec. 11, lots 1 to 4, inclusive, SW¼NE¼, W½, NW¼SE¼, and S½SE¼;

Sec. 12, lots 1 to 5, inclusive, E½, NE¼SW¼, and S½SW¼;

Sec. 13, lots 1 to 5, inclusive, NW¼NW¼, S½NW¼, and S½;

Sec. 14;

Sec. 15, NE¼, E½NW¼, NE¼SW¼, and N½SE¼;

Sec. 23, N½NE¼, SE¼NE¼, and NE¼NW¼;

Sec. 24, N½ and SE¼.

T. 17 S., R. 12 E.,

Sec. 31, lots 3, 4, and 6 to 20, inclusive;

Sec. 32, lots 11 to 14, inclusive, and 16;

Sec. 33, W½W½ and SE¼SW¼.

T. 18 S., R. 12 E.,

Sec. 3, SW¼NW¼, W½SW¼, and SE¼SW¼;

Sec. 4, lots 1 to 17, inclusive, SW¼NW¼, SW¼, and S½SE¼;

Secs. 5, 6, and 7;

Sec. 8, lots 1, 2, 4, 5, 7, 8, 9, 11, 12, NW¼SW¼, and S½SW¼;

Secs. 9 and 10;

Sec. 11, lots 2, 3, 4, and SE¼;

Sec. 12, SW¼;

Sec. 13, lots 2 to 6, inclusive, lot 8, W½NE¼, NW¼, N½SW¼, and NW¼SE¼;

Secs. 14 and 15;

Sec. 17, lots 1 and 2, NE¼, NE¼NW¼, W½NW¼, and E½SE¼;

Sec. 18, lots 1 to 14, inclusive, and N½NE¼;

Sec. 19, lots 1 to 6, inclusive, S½NE¼, E½W½, and SE¼;

Sec. 20, E½, S½NW¼, and SW¼;

Sec. 21, N½;

Sec. 22, NE¼NE¼, S½NE¼, NW¼, and S½;

Secs. 23 and 24;

Sec. 25, lots 1, 3 to 6, inclusive, 8, 9, 11, 14, W½, and W½SE¼;

Sec. 26, N½;

Sec. 27, N½, N½S½, and S½SE¼;

Sec. 28, NE¼ and SE¼NW¼;

Sec. 29, N½N½;

Sec. 30, lot 1 and NE¼NE¼;

Sec. 34, NE¼NE¼;

Sec. 35, N½, NE¼SW¼, and N½SE¼.

T. 18 S., R. 13 E.,

Sec. 16, NW¼SW¼;

Sec. 17, SW¼NE¼ and S½;

Sec. 18, lots 2, 3, 4, and E½SE¼;

Sec. 19, lots 1 to 4, inclusive, and E½E½;

Secs. 20 and 21;

Sec. 22, NW¼NW¼, NE¼SW¼, and S½SW¼;

Sec. 27, NW¼NE¼, NE¼NW¼, SW¼NW¼, W½SW¼, S½SE¼SW¼, and S½S½SE¼;

Secs. 28 to 31, inclusive;

Sec. 32, all excluding Mineral Survey Nos. 6696 and 6724, both patented;

Sec. 33, all excluding that portion of Mineral Survey No. 6680, patented and contained therein;

Sec. 34, N½ and N½S½ excluding that portion of Mineral Survey No. 6680, patented and contained therein;

Sec. 35, N½N½NW¼.

T. 19 S., R. 13 E.,

Sec. 2, lot 4 and SW¼NW¼;

Sec. 3, lots 1 to 4, inclusive, S½NE¼, S½NW¼, and SW¼;

Sec. 4, lots 1 to 4, inclusive, S½N½, and S½;

Sec. 5, lots 1 to 4, inclusive, S½N½, N½S½, and SE¼SE¼;

Sec. 6, lot 1 and SE¼NE¼.

The areas described aggregate 28,953.097 acres, more or less, in Fresno and San Benito Counties.

(b) The following described non-Federal lands are located within the boundaries of the proposed withdrawal areas. In the event that these non-Federal lands return to public ownership, they would be subject to the terms and conditions described above.

Mount Diablo Meridian

Non-Federal lands

T. 18 S., R. 11 E.,

Secs. 2, 11, and 12, Mineral Survey No. 29, patented;

Secs. 11 and 12, Mineral Survey No. 504, patented;

Sec. 13, Mineral Survey No. 1417, patented.

T. 18 S., R12 E.,

Sec. 4, Mineral Survey Nos. 1087, 1099, and 1185, all patented;

Secs. 7, 18, and 19, Mineral Survey No. 1417, patented;

Sec. 8, lots 3, 6, and 10, NE¼SW¼;

Sec. 13, lot 7, S½SW¼, and SW¼SE¼;

Sec. 16;

Sec. 17, SE¼NW¼, E½SW¼, and W½SE¼;

Secs. 17, 18, 19, and 20, Mineral Survey No. 1418, patented;

Sec. 20, lot 1 and NE¼NW¼;

Sec. 22, NW¼NE¼;

Sec. 25, lots 2, 7, 10, 12, and 13, Mineral Survey No. 4976, patented;

Sec. 26, S½;

Sec. 36.

T. 18 S., R. 13 E.,

Sec. 32, Mineral Survey Nos. 6696 and 6724, both patented;

Secs. 33 and 34, Mineral Survey No. 6680, both patented;

Sec. 34, S½S½.

The areas described aggregate 3,763 acres, more or less, in Fresno and San Benito Counties.

The BLM's petition has been approved by the Assistant Secretary for Land and Minerals Management. Therefore, the petition constitutes a withdrawal proposal of the Secretary of the Interior (43 CFR 2310.1-3(e)).

The purpose of the proposed withdrawal is to minimize impacts to human health and the environment from hazardous emissions of airborne asbestos fibers associated with mining activities on the 33,000-acre portion of the CCMA designated as the Serpentine Area of Critical and Environmental Concern (ACEC).

The use of a right-of-way, interagency agreement, or cooperative agreement would not adequately constrain non-discretionary uses that could irrevocably expose to excess lifetime cancer risks.

There are no suitable alternative sites for the requested withdrawal.

No water rights would be needed to fulfill the purpose of the requested withdrawal.

A preliminary review of mineral resources in the subject area determined that no mineral leases are known to exist in the subject area and no known potential for commercial fossil fuel or geothermal energy minerals exists in the subject area. Asbestos, mercury, chromite, and magnesite are among the only locatable minerals of interest in the area, although none are expected to be commercially important commodities in the foreseeable future. Nevertheless, the KCAC mine, formerly owned and operated by Union Carbide, Corp., is still considered an active mining claim, even though asbestos production ceased after 2002. Other locatable minerals of interest, including precious gem-quality benitoite and semi-precious jadeite, continue to be mined intermittently on a small-scale in the subject area. Mining and production of these gem minerals has been occurring for decades on public and privately owned lands in the ACEC. This proposed withdrawal would be subject to valid existing rights and therefore would not prohibit future exploration or mining activities on valid pre-existing claims.

Until November 1, 2010, all persons who wish to submit comments, suggestions, or objections in connection with the proposed withdrawal may present their views in writing, by the date specified above, to the Field Manager, Hollister Field Office, BLM, 20 Hamilton Court, Hollister, California 95023.

Comments, including names and street addresses for respondents, will be available for public review at the BLM's Hollister Field Office, during regular business hours, 7:30 a.m. to 4 p.m., Monday through Friday, except holidays. Individual respondents may request confidentiality. Before including your address, telephone number, e-mail address, or other personal identifying information in your comment, you should be aware the your entire comment—including your personal identifying information—may be publicly available at any time. While you can ask us in your comment to withhold your personal identifying information from public review, we cannot guarantee that we will be able to do so. All submissions from organization or businesses, and from individuals identifying themselves as representatives or officials of organizations or businesses, will be made available for public inspection in their entirety.

Notice is hereby given that at least one public meeting will be held in connection with the proposed withdrawal. Upon determination of the time and place a notice will be published in the Federal Register and a local newspaper at least 30 days prior to the scheduled date of the meetings. All interested persons who desire additional public meetings for the purpose of being heard on the proposed withdrawal must submit a written request to the Field Manager, Hollister Field Office, BLM, 20 Hamilton Court, Hollister, California 95023, no later than November 1, 2010.

The application will be processed in accordance with the regulations set forth in 43 CFR part 2300.

For a period of 2 years from August 3, 2010, the lands described in this notice will be segregated as specified above unless the application is denied or canceled or the withdrawal is approved prior to that date.

Licenses, permits, cooperative agreement, or discretionary land use authorizations of a temporary nature which will not significantly impact the values to be protected by the withdrawal may be allowed with the approval of the authorized officer of the BLM during the segregative period.

Authority: 43 CFR 2310.3-1(a).

Karla Norris,
Assistant Deputy State Director, Natural Resources (CA-930).

[FR Doc. 2010-19050 Filed 8-2-10; 8:45 am]

BILLING CODE 4310-40-P